DEPARTMENT OF TRANSPORTATION

Federal Aviation Administration

14 CFR Part 71

[Airspace Docket No. 99-AEA-07]

Establishment of Class D Airspace; Salisbury, MD

AGENCY: Federal Aviation Administration (FAA) DOT.

ACTION: Final rule.

SUMMARY: This action establishes Class D airspace area at Salisbury, MD. The commissioning of a new Air Traffic Control Tower (ATCT) at the Salisbury-Ocean City, Wicomico Regional Airport (SBY) has made this proposal necessary. Controlled airspace extending upward from the surface to 2,500 feet Above Ground Level (AGL) is needed to accommodate Instrument Flight Rules (IFR) operations to the airport.

EFFECTIVE DATE: 0901 UTC, 13 July 2000.

FOR FURTHER INFORMATION CONTACT: Mr. Francis Jordan, Airspace Specialist, Airspace Branch, AEA-520, Air Traffic Division, Eastern Region, Federal Aviation Administration, Federal Building #111, John F. Kennedy International Airport, Jamaica, New York 11430, telephone: (718) 553-4521.

SUPPLEMENTARY INFORMATION:

History

On June 7, 1999, a notice proposing to amend Part 71 of the Federal Aviation Regulations (14 CFR part 71) to establish Class D airspace at Salisbury, MD was published in the Federal Register (64 FR 30259-30260). A new Air Traffic Control Tower (ATCT) made this action necessary. Controlled airspace extending upward to 2,500 feet above Ground Level (AGL) is needed to contain IFR operations in controlled airspace during portions of the terminal operation and while transitioning between the en-route and terminal environments. The notice proposed to designate the entire Class E airspace that is now in existence to Class D airspace. Interested parties were invited to participate in this rulemaking proceeding by submitting written comments on the proposal to the FAA. Comments to the proposal were received which labeled the proposed Class D airspace excessive when it includes all of the Class E airspace assigned to Salisbury Airport area. After further review the airspace area is amended so that the established Class D airspace is only the area within a 6.6 mile radius of the airport.

The coordinates for this airspace docket are based on North American Datum 83.

Class D airspace areas designations for airspace extending upward from the surface to a specified level are published in paragraph 5000 of FAA Order 7400.9F, dated September 10, 1999, and effective September 16, 1999, which is incorporated by reference in 14 CFR 71.1. The Class D designation listed in this document will be published subsequently in the Order.

The Rule

This amendment to Part 71 of the Federal Aviation Regulations (14 CFR part 71) establishes Class D airspace at Salisbury, MD extending upward from the surface to 2,500 feet AGL.

The FAA has determined that this regulation only involves an established body of technical regulations for which frequent and routine amendments are necessary to keep them operationally current. Therefore, this regulation—(1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation it is certified that this rule will not have significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—[AMENDED]

1. The authority citation for 14 CFR part 71 continues to read as follows:

Authority: 49 U.S.C. 106(g), 40103, 40113, 40120; EO 10854, 24 FR 9565, 3 CFR, 1959-1963 Comp., p. 389.

§ 71.1 [Amended]

2. The incorporation by reference in 14 CFR 71.1 of Federal Aviation Administration Order 7400.9F, Airspace Designations and Reporting Points, dated September 10, 1999, and effective September 16, 1999, is amended as follows:

Paragraph 5000 Class D airspace area consisting of specified airspace within which all aircraft operators are subject to operating rules and equipment requirements of Part 91 of the Federal Aviation Regulation.

AEA MD D Salisbury, MD [Original]

Salisbury-Ocean City, Wicomico County Regional Airport, MD.

(Lat. 3820.26 N/long. 753062 W)

Salisbury VORTAC

(Lat. 3820.70 N/long. 753064 W)

That airspace extending upward from the surface to an including 2,500 feet MSL within a 6.6 mile radius of the Salisbury-Wicomico County Regional Airport. This Class D airspace area is effective during specific dates and times established in advance by a Notice to Airmen. The effective date and time will thereafter be continuously published in the Airport Facility Directory.

* * * * *

Issued in Jamaica, New York on May 9, 2000.
Franklin D. Hatfield,
Manager, Air Traffic Division, Eastern Region.

[FR Doc. 00-13173 Filed-24-00; 8:45 am]

BILLING CODE 4910-13-M